DEPARTMENT OF TRANSPORTATION

Federal Highway Administration

Notice of Final Federal Agency Actions of Proposed Highway/Interchange Improvement in Ohio; Statute of Limitations on Claims

AGENCY: Federal Highway Administration (FHWA), DOT.

ACTION: Notice of Limitation on Claims for Judicial Review of Actions by the Ohio Department of Transportation (ODOT), pursuant to 23 U.S.C. 327.

SUMMARY: The FHWA, on behalf of ODOT, is issuing this notice to announce actions taken by ODOT that are final. The actions relate to the proposed modification of the existing interchange at Interstate Route 71 (I-71), United States Route 36 (US-36), and State Route 37 (SR-37) in the County of Delaware, State of Ohio. Those actions grant licenses, permits, and approvals for the project.

DATES: By this notice, the FHWA, of behalf of ODOT, is advising the public of final agency actions subject to 23 U.S.C. 139(I)(1). A claim seeking judicial review of the Federal Agency Actions on the highway project will be barred unless the claim is filed on or before March 26, 2018. If the Federal law that authorizes judicial review of a claim provides a time period of less than 150 days for filing such claim, then that shorter period of time still applies.

FOR FURTHER INFORMATION CONTACT: For ODOT: Timothy M. Hill, Administrator, Office of Environmental Services, Ohio Department of Transportation, 1980 West Broad Street, Columbus, Ohio, 43223, 614-644-0377, Tim.Hill@dot.ohio.gov.

SUPPLEMENTARY INFORMATION: Effective December 11, 2015, the Federal Highway Administration (FHWA) assigned, and the Ohio Department of Transportation (ODOT) assumed, environmental responsibilities for this project pursuant to 23 U.S.C. 327. Notice is hereby given that ODOT, has taken final agency actions subject to 23 U.S.C. 139(l)(1) by issuing licenses, permits, and approvals for the following highway project in the State of Ohio. The project will involve construction of an interchange at I-71, south of the existing US 36/SR 37 interchange. This interchange will carry the new Sunbury Parkway over I-71 and run east and west of the interstate, operating in conjunction with the existing interchange to the north at US 36/SR37. Specifically, the revisions to the interchange will include a relocated I-71 northbound off-ramp which will provide access to both Sunbury Parkway and US 36/SR 37 and will occur south of the current northbound off ramp. Access to US 36/SR 37 from northbound I-71 will be accommodated by a collector-distributor road. Access to I-71 northbound from Sunbury Parkway will also occur via the collector/distributor road. Southbound on-ramps to I-71 from Sunbury Parkway eastbound and westbound will be provided. The existing interchange at US 36/SR 37 will remain, but as stated above, the northbound exit from I-71 to access both Sunbury Parkway and US 36/SR 37 will be at the same exiting point.

The project will also construct Sunbury Parkway from Africa Road at US 36/SR 37 east to Wilson Road as a six lane road with a median, multi-use path and sidewalk. The Africa Road intersection with US 36/SR 37 will be realigned to create a four-legged intersection with Sunbury Parkway. 3B's & K Road south of Sunbury Parkway will be relocated to create an intersection with Sunbury Parkway and the future Fourwinds Drive, which will be extended south by others. A cul-de-sac will be constructed on 3B's & K Road, north of Sunbury Parkway.

East of Wilson Road, a new arterial roadway, also identified as Sunbury Parkway, is listed on the Village of Sunbury's Comprehensive Plan which was adopted by Village of Sunbury Council on November 2, 2016. This project is currently on the Mid-Ohio Regional Planning Commission (MORPC) 2018-2021 Transportation Improvement Plan (TIP) for construction by the Village of Sunbury New Community Authority 1 (NCA1), by 2019. This project, the “Committed Sunbury Parkway,” will be built with two travel lanes (one in each direction), with left turn lanes at the intersections with South Galena Road, Domigan Road, and US 36/SR 37 (Cherry Street). Because a five-lane corridor will eventually be necessary to meet the future traffic needs of development, all the right-of-way and grading along the Committed Sunbury Parkway will be for the ultimate (five-lane) configuration. All culverts and the bridge over Little Walnut Creek, will also be built wide enough for the ultimate (five-lane) configuration.

The ODOT project will widen on the inside of the Committed Sunbury Parkway in order to provide five lanes with a grass median from Wilson Road to US 36/SR 37 (Cherry Street) along with constructing additional turn lanes to accommodate the future traffic demands at Galena Road. ODOT's project east of Wilson Road will not involve construction of bridges or culverts or include any earth disturbing activity outside of the right-of-way previously established for the Committed Sunbury Parkway.

Subsequent to the distribution of the June 20, 2017 EA and the July 11, 2017 public hearing, several roadway design features were altered to improve roadside safety. These alterations were related to roadway and interchange ramp embankment fill slopes and the need to eliminate fragmented residual parcels. Additionally, in an email dated July 28, 2017, the FHWA, Ohio Division, upon review of the project's Interchange Modification Study, notified ODOT that the project's preferred alternative constituted the creation of a new interchange, not a modification of the existing US 36/SR 37 interchange. FHWA also determined that the preferred alternative is a partial interchange as a direct connection from I-71 southbound to Sunbury Parkway is not provided. As part of the required documentation to obtain FHWA approval of the interchange study, ODOT was required by FHWA to consider a full interchange that provided all movements, even though it would not be constructed. ODOT reconsidered the above changes and compared them to the findings in the EA. ODOT conducted additional studies as needed and summarized the coordination and findings in an Addendum to the EA, September 20, 2017 Based upon ODOT's review and consideration of the analysis and evaluation contained in the EA and the Addendum to the EA for this project, and after careful consideration of all social, economic, and environmental factors, including input from the state/federal agencies, ODOT has determined that the changes contained within this document do not rise to the level of significance and therefore do not required the recirculation of the EA nor the creation of a supplemental EA document.

The actions by the Federal agencies, and the laws under which such actions were taken, are described in the Environmental Assessment (EA), the Addendum to the EA, and the Finding on No Significant Impact (FONSI), approved on October 16, 2017. The EA, Addendum to the EA, FONSI, and other project records are available by contacting ODOT at the address provided above and can be viewed and downloaded from the project Web site at https://www.dot.state.oh.us/districts/D06/projects/71/Pages/default.aspx. This notice applies to all Federal agency decisions as of the issuance date of this notice and all laws under which such actions were taken, including but not limited to:

(1) Council on Environmental Quality regulations;

(2) National Environmental Policy Act (NEPA);

(3) Moving Ahead for Progress in the 21st Century Act (MAP-21);

(4) Department of Transportation Act of 1966;

(5) Federal Aid Highway Act of 1970;

(6) Clean Air Act Amendments of 1990;

(7) Noise Control Act of 1970;

(8) 23 CFR part 772 FHWA Noise Standards, Policies and Procedures;

(9) Department of Transportation Act of 1966, Section 4(f);

(10) Clean Water Act of 1977 and 1987;

(11) Endangered Species Act of 1973;

(12) Migratory Bird Treaty Act;

(13) National Historic Preservation Act of 1966, as amended;

(14) Historic Sites Act of 1935; and,

(15) Executive Order 13112, Invasive Species.

(Catalog of Federal Domestic Assistance Program Number 20.205, Highway Planning and Construction. The regulations implementing Executive Order 12372 regarding intergovernmental consultation on Federal Programs and activities apply to this program.)

Authority: 23 U.S.C. 139(l)(1)

Issued On: October 19, 2017.
Laura S. Leffler,
Division Administrator, Federal Highway Administration, Columbus, Ohio.

[FR Doc. 2017-23202 Filed 10-24-17; 8:45 am]

BILLING CODE 4910-22-P